DEPARTMENT OF THE INTERIOR

National Park Service

[NPS-WASO-NRNHL-20044; PPWOCRADI0, PCU00RP14.R50000]

National Register of Historic Places; Notification of Pending Nominations and Related Actions

AGENCY: National Park Service, Interior.

ACTION: Notice.

SUMMARY: The National Park Service is soliciting comments on the significance of properties nominated before December 26, 2015, for listing or related actions in the National Register of Historic Places.

DATES: Comments should be submitted by February 5, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before December 26, 2015. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

MASSACHUSETTS

Essex County

Ridgewood Cemetery, 177 Salem St.,North Andover, 15001049

NEW JERSEY

Cumberland County

CASHIER (oyster schooner),2800 High St.,Commercial Township, 15001050

Somerset County

Neshanic Station Historic District, Maple Ave., Fairview Dr., Woodfern Rd., Elm, Olive, Pearl, Main & Marshall Sts.,Branchburg Township, 15001051

OREGON

Deschutes County

Pilot Butte Canal Historic District,Roughly bounded by Cooley, Overtree & Yeoman Rds., Brightwater Dr.,Bend, 15001052

VIRGINIA

Albemarle County

Greenwood—Afton Rural Historic District (Boundary Increase),5860 & 5710 Howardsville Tpk.,Greenwood—Afton, 15001053

Chesterfield County

Pocahontas State Park Historic District,(Virginia State Parks built by New Deal Programs MPS)10301 State Park Rd.,Chesterfield, 15001054

WISCONSIN

La Crosse County

La Crosse Plow Company Building,525 N. 2nd St.,La Crosse, 15001055

Rock County

Whiton—Parker House,1000 E. Milwaukee St.,Janesville, 15001056

Authority: 60.13 of 36 CFR part 60.

Dated: December 29, 2015.
J. Paul Loether,
Chief, National Register of Historic Places/National Historic Landmarks Program.

[FR Doc. 2016-01071 Filed 1-20-16; 8:45 am]

BILLING CODE 4312-51-P